DEPARTMENT OF THE INTERIOR

Bureau of Land Management

[LLNVE00000 L19900000.EX0000 241A; 10-08807; MO#450012780; TAS: 14X1109]

Notice of Availability of Final Supplemental Environmental Impact Statement Updating Cumulative Effects Analysis for the Newmont Mining Corporation South Operations Area Project Amendment, Nevada

AGENCY: Bureau of Land Management, Interior.

ACTION: Notice of Availability.

SUMMARY: In accordance with the National Environmental Policy Act of 1969, as amended and the Federal Land Policy Management Act of 1976, as amended, the Bureau of Land Management (BLM), Elko District Office prepared a Final Supplemental Environmental Impact Statement (EIS) to update the cumulative effects analysis for Newmont Mining Corporation's South Operations Area Project Amendment gold mine in Eureka and Elko counties, Nevada and by this Notice is announcing its availability.

DATES: The BLM will not issue a final decision on the proposal for a minimum of 30 days after the date that the Environmental Protection Agency publishes its notice of availability in the Federal Register.

ADDRESSES: Copies of the Final Supplemental EIS are available for public inspection at the BLM Elko District Office, 3900 Idaho Street, Elko, Nevada 89801. Interested persons may also review the Final Supplemental EIS on the following Web site: http://www.blm.gov/nv/st/en/fo/elko_field_office.html.

FOR FURTHER INFORMATION CONTACT: For further information contact Deb McFarlane, (775) 753-0200, or e-mail: Deb_McFarlane@blm.gov.

SUPPLEMENTARY INFORMATION: The BLM signed a Record of Decision (ROD) for Newmont Mining Corporation's South Operations Area Project Amendment (SOAPA), an open-pit gold mine located on the Carlin Trend in northeastern Nevada, on July 26, 2002. Four years of legal review resulted in the United States Court of Appeals for the Ninth Circuit partially reversing the ROD. The Final Supplemental EIS updates the analysis of some cumulative impacts including potential impacts to air quality, minerals, Native American and cultural resources, water, vegetation, grazing, recreation, noise, visual resources, wilderness resources, threatened and endangered species, and socioeconomics.

The SOAPA authorized Newmont Mining Corporation to mine an additional 350 feet below what had been previously authorized, to expand waste rock disposal facilities and leach facilities by 139 acres, to continue dewatering and ground water discharge to Maggie Creek, and to construct associated ancillary facilities.

A Notice of Intent to Prepare a Supplemental EIS Updating Cumulative Effects Analysis for the Newmont Mining Corporation South Operations Area Project Amendment, Nevada, was published in the Federal Register on March 7, 2007 [72 FR 10241]. The Notice of Availability for the Draft Supplemental EIS was published in the Federal Register on September 6, 2007 [72 FR 51249].

Authority: 40 CFR 1506.6 and 1506.10.

Kenneth E. Miller,
Elko District Manager.

[FR Doc. 2010-16031 Filed 7-1-10; 8:45 am]

BILLING CODE 4310-HC-P